FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel Operating Common Carrier Ocean Transportation Intermediary Applicants

Fidelity Logistics Corp., 20 W. Lincoln Avenue, Suite 302, Valley Stream, NY 11580. Officer: Cheng Hsia, President (Qualifying Individual).

Turkish Express Line, Inc., 875 Avenue of the Americas, Suite 902, New York, NY 1001. Officers: Ipek Sokman, President (Qualifying Individual) Oytun Cakir, Vice President.

Titan Lines, Inc., 1831 Borrego Drive, West Covina, CA 91791. Officer: Libin Shen, President (Qualifying Individual).

Orca World Lines, Inc., 19818 South Alameda Street, Rancho Dominguez, CA 90221. Officers: Rogerio de Oliverira Morais, Vice President (Qualifying Individual) Mamdouh Mokhtar, President.

Marine International Inc., 1410 Valley Lake Drive, #305, Schaumburg, IL 60195. Officers: Darnell Spencer, Secretary (Qualifying Individual) Ravinder Grewal, Managing Director.

Non-Vessel Operating Common Carrier and Ocean Freight Forwarder Transportation Intermediary Applicants

Metro International Trade Services LLC, 909 East Colon Street, Wilmington, CA 90744. Officer: W.F. Whelan, President (Qualifying Individual).

All American Logistics Inc., 194 Quality Plaza, Hicksville, NY 11801. Officers: Yaron Ruham, President Alicia Gonzalez, Office Manager.

Inbox Cargo Solutions, Inc., 9515 NW 13th Street, Miami, FL 33172. Officer: Fausto Molinares, President (Qualifying Individual).

Seamar Freight International Inc., 175-01 Rockaway Blvd., Jamaica, NY 11434. Officers: Rodit Marcovici, President (Qualifying Individual) Isaac Kohn, Secretary.

MMI Logistics, Inc., 12719 Chron Avenue, Hawthorne, CA 90250. Officer: Matthew A. Otway, President (Qualifying Individual).

Occidental-Pacific Traders International Corp., 8366 N.W. 66th Street, Miami, FL 33166. Officers: Lourdes Nodal, President (Qualifying Individual) Fernando Mirabal, Director.

Ocean Freight Forwarder—Ocean Transportation Intermediary Applicants

Ohanneson Freight Forwarding Co., P.O. Box 767, Nicasio, CA 94946, Elizabeth A. Ohanneson, Sole Proprietor.

Romcrest International Corporation, 508 Summer Lake Lane, Virginia Beach, VA 23454-6885. Officer: Anton Samoila, President (Qualifying Individual).

USA Petrolog Inc., 2700 Greens Road, Bldg. G, Houston, TX 77032. Officer: Gail Milholland, Operations Manager (Qualifying Individual).

Dated: December 17, 2004.
Bryant L. VanBrakle,
Secretary.

[FR Doc. 04-28019 Filed 12-21-04; 8:45 am]

BILLING CODE 6730-01-P